DEPARTMENT OF ENERGY

Federal Energy Regulatory Commission

[Docket Nos. EG09-18-000; EG09-22-000]

Milford Power Company, LLC, Penascal Wind Power LLC; Notice of Effectiveness of Exempt Wholesale Generator Status

April 3, 2009.

Take notice that during the month of February 2009, the status of the above-captioned entities as Exempt Wholesale Generators Companies became effective by operation of the Commission's regulations 18 CFR 366.7(a).

Kimberly D. Bose,
Secretary.

[FR Doc. E9-8163 Filed 4-9-09; 8:45 am]

BILLING CODE 6717-01-P